NATIONAL SCIENCE FOUNDATION

Sunshine Act Meetings; National Science Board

The National Science Board, pursuant to NSF regulations (45 CFR part 614), the National Science Foundation Act, as amended, (42 U.S.C. 1862n-5), and the Government in the Sunshine Act (5 U.S.C. 552b), hereby gives notice of RESCHEDULING a meeting for the transaction of National Science Board business.

FEDERAL REGISTER CITATION OF ORIGINAL ANNOUNCEMENT: 83 FR 43710, published on August 27, 2018. The teleconference meeting was originally scheduled for Thursday, August 30, 2018, from 3:00-4:00 p.m. EDT.

FEDERAL REGISTER CITATION OF POSTPONEMENT: 83 FR 44675, published on August 30, 2018.

NEW TIME AND DATE OF MEETING: This closed teleconference meeting of the National Science Board has been rescheduled and will be held on Tuesday, September 18, 2018, from 4:00-5:00 p.m. EDT.

CONTACT PERSON FOR MORE INFORMATION: Brad Gutierrez, bgutierr@nsf.gov, 703-292-7000. Please refer to the National Science Board website for additional information. Meeting information and schedule updates (time, place, subject matter, and status of meeting) may be found at http://www.nsf.gov/nsb/meetings/notices.jsp#sunshine.

Chris Blair,
Executive Assistant, National Science Board Office.

[FR Doc. 2018-19927 Filed 9-10-18; 4:15 pm]

BILLING CODE 7555-01-P